DEPARTMENT OF COMMERCE

National Oceanic and Atmospheric Administration

Federal Consistency Appeal by Pan American Grain Co.

AGENCY: National Oceanic and Atmospheric Administration (NOAA), Department of Commerce.

ACTION: Notice of Closure—Administrative Appeal Decision Record.

SUMMARY: This announcement provides notice that the decision record for an administrative appeal filed with the Secretary of Commerce (Secretary) by Pan American Grain Co. (Pan American) has closed. No additional information, briefs, or comments (not previously submitted and made part of the decision record prior to closure) will be considered by the Secretary in deciding the appeal.

DATES: The appeal decision record closed on October 4, 2010.

ADDRESSES: Materials from the appeal record are available at NOAA, Office of General Counsel for Ocean Services, 1305 East-West Highway, Room 6111, Silver Spring, MD 20910 and on the following Web site: http://www.ogc.doc.gov/czma.htm.

FOR FURTHER INFORMATION CONTACT: Gladys P. Miles, Attorney-Advisor, NOAA, Office of General Counsel, 301-713-7384, or at gcos.inquiries@noaa.gov.

SUPPLEMENTARY INFORMATION: On January 27, 2010, Pan American filed notice of an appeal with the Secretary, pursuant to the Coastal Zone Management Act of 1972 (CZMA), 16 U.S.C. 1451 et seq., and implementing regulations found at 15 CFR Part 930, Subpart H. The appeal is taken from an objection by Puerto Rico Planning Board to Pan American's consistency certification filed in conjunction with an application to the U.S. Army Corps of Engineers for a permit to construct a new marine leg, leg storage platform, and service walkway in San Juan Bay, Puerto Rico. Notice of this appeal was published in the Federal Register on February 26, 2010. See 75 FR 8919.

The Secretary is required under the CZMA to close the decision record for an appeal no later than 220 days after notice of the appeal is first published in the Federal Register. See 16 U.S.C. 1465(b). Once the decision record is closed, the Secretary is prohibited from considering any additional information, briefs, or comments not previously submitted and made part of the decision record prior to closure. Id.

Consistent with these requirements, the appeal decision record for the federal consistency appeal filed by Pan American closed on October 4, 2010. No further information, briefs, or comments (not previously submitted and made part of the decision record prior to closure) will be considered by the Secretary in deciding the appeal.

Additional information on this appeal is available at the NOAA, Office of General Counsel for Ocean Services, 1305 East-West Highway, Room 6111, Silver Spring, MD 20910 and on the following Web site: http://www.ogc.doc.gov/czma.htm.

[Federal Domestic Assistance Catalog No. 11.419 Coastal Zone Management Program Assistance.]

Dated: October 1, 2010.
Joel La Bissonniere,
Assistant General Counsel for Ocean Services, NOAA.

[FR Doc. 2010-25161 Filed 10-5-10; 8:45 am]

BILLING CODE 3510-22-P